DEPARTMENT OF COMMERCE

International Trade Administration

[A-570-827]

Notice of Decision of the Court of International Trade: Certain Cased Pencils from the People's Republic of China

AGENCY: Import Administration, International Trade Administration, Department of Commerce.

SUMMARY: On March 7, 2006, the Court of International Trade (CIT) sustained the Department of Commerce's (the Department's) voluntary redetermination regarding the 2001-2002 antidumping duty administrative review of certain cased pencils (pencils) from the People's Republic of China (PRC). In its redetermination, the Department selected a new surrogate value for pencil cores which it used to recalculate the respondents' dumping margins. Consistent with the decision of the United States Court of Appeals for the Federal Circuit (Federal Circuit) in The Timken Company v. United States and China National Machinery and Equipment Import and Export Corporation, 893 F. 2d 337 (Fed. Cir. 1990) (Timken), the Department is publishing this notice of the CIT's decision which is not in harmony with the Department's determination in the 2001-2002 antidumping duty administrative review of pencils from the PRC.

EFFECTIVE DATE: April 3, 2006.

FOR FURTHER INFORMATION CONTACT: Magd Zalok or Howard Smith at (202) 482-4162 or (202) 482-5193, respectively; AD/CVD Operations, Office 4, Import Administration, International Trade Administration, U.S. Department of Commerce, 14th Street and Constitution Avenue, NW, Washington, DC 20230.

SUPPLEMENTARY INFORMATION:

Background

On May 21, 2004, the Department published in the Federal Register, the final results of its 2001-2002 antidumping duty administrative review of pencils from the PRC. See Certain Cased Pencils from the People's Republic of China; Final Results and Partial Rescission of Antidumping Duty Administrative Review; 69 FR 29266 (May 21, 2004). In that review, the Department used 2002 Monthly Statistics of the Foreign Trade of India (MSFTI) to value pencil cores.

During July 2004, several respondents in the 2001-2002 administrative review filed complaints with the CIT contesting, among other things, the Department's valuation of black and color pencil cores. On September 1, 2004, the Department filed a motion for a voluntary remand with the CIT with respect to the pencil core issue. On September 20, 2004, the CIT remanded this case to the Department to conduct further proceedings concerning the valuation of pencil cores. On December 20, 2004, the Department issued its redetermination in which it recalculated the respondents' dumping margins using a new surrogate value for pencil cores (i.e., 2001 MSFTI data, adjusted for inflation, rather than 2002 MSFTI data). The recalculated dumping margins are as follows: 4.21 percent for Shandong Rongxin Import & Export Company, Ltd., 5.63 percent for Orient International Holding Shanghai Foreign Trade Co., Ltd., and 16.50 for China First Pencil Company, Ltd./Three Star Stationery Industry Corp.. The PRC-wide rate was not changed. See Final Results of Voluntary Redetermination Pursuant to Court Order, December 20, 2004. On March 7, 2006, the CIT sustained the Department's decision, including the redetermination. See China First Pencil Co., Ltd., et al v. United States and Sanford Corporation, et al. Slip Op. 06-34.

Notification

In its decision in Timken, the Federal Circuit held that, pursuant to 19 U.S.C. 1516a(e), the Department must publish notice of a CIT decision which is “not in harmony” with the Department's determination. With respect to the valuation of pencil cores, the above-referenced CIT decision is not in harmony with the Department's determination in the final results of the 2001-2002 antidumping duty administrative review of pencils from the PRC. Therefore, publication of this notice fulfills the Department's obligation under 19 U.S.C. 1516a(e).

The Department will continue to suspend liquidation pending the expiration of the period to appeal the CIT's March 7, 2006, decision, or, if that decision is appealed, pending a “conclusive” decision by the Federal Circuit. Upon expiration of the period to appeal, or if the CIT's decision is appealed and the Federal Circuit's decision is not in harmony with the Department's determination in the 2001-2002 antidumping duty administrative review of pencils from the PRC, the Department will publish in the Federal Register a notice of amended final results for the 2001-2002 administrative review of pencils.

March 24, 2006.
David M. Spooner,
Assistant Secretary for Import Administration.

[FR Doc. E6-4747 Filed 3-31-06; 8:45 am]

BILLING CODE 3510-DS-S